DEPARTMENT OF COMMERCE

International Trade Administration

[A-570-108]

Ceramic Tile From the People's Republic of China: Final Affirmative Determination of Sales at Less Than Fair Value, and Final Partial Affirmative Critical Circumstances Determination

AGENCY: Enforcement and Compliance, International Trade Administration, Department of Commerce.

SUMMARY: The Department of Commerce (Commerce) determines that ceramic tile from the People's Republic of China (China) is being, or is likely to be, sold in the United States at less than fair value (LTFV). The final dumping margins are listed in the “Final Determination Margins” section of this notice.

DATES: Applicable April 7, 2020.

FOR FURTHER INFORMATION CONTACT: Erin Kearney, AD/CVD Operations, Office VI, Enforcement and Compliance, International Trade Administration, U.S. Department of Commerce, 1401 Constitution Avenue NW, Washington, DC 20230; telephone: (202) 482-0167.

SUPPLEMENTARY INFORMATION:

Background

On November 14, 2019, Commerce published the Preliminary Determination of this investigation.¹ The petitioner is The Coalition for Fair Trade in Ceramic Tile. The mandatory respondents in this investigation are Belite ² and Foshan Sanfi Import & Export Co., Ltd. (Foshan Sanfi).

¹ See Ceramic Tile from the People's Republic of China: Preliminary Affirmative Determination of Sales at Less Than Fair Value, Preliminary Negative Critical Circumstances Determination, and Postponement of Final Determination, 84 FR 61877 (November 14, 2019) (Preliminary Determination), and accompanying Preliminary Decision Memorandum (PDM); see also Ceramic Tile from the People's Republic of China: Notice of Correction to the Preliminary Affirmative Determination of Sales at Less Than Fair Value, 84 FR 68114 (December 13, 2019).

² We collapsed Belite Ceramics (Anyang) Co., Ltd., Beilitai (Tianjin) Tile Co., Ltd. (Beilitai), and Tianjin Honghui Creative Technology Co., Ltd., collectively hereafter referred to as Belite. See Memorandum, “Investigation of Ceramic Tile from the People's Republic of China: Affiliation and Collapsing of Belite Ceramics (Anyang) Co., Ltd., Beilitai (Tianjin) Tile Co., Ltd., and Tianjin Honghui Creative Technology Co., Ltd.,” dated November 6, 2019.

A summary of the events that occurred since Commerce published the Preliminary Determination, as well as a full discussion of the issues raised by parties for this final determination, are discussed in the Issues and Decision Memorandum.³ The Issues and Decision Memorandum is a public document and is on file electronically via Enforcement and Compliance's Antidumping and Countervailing Duty Centralized Electronic Service System (ACCESS). ACCESS is available to registered users at http://access.trade.gov, and to all parties in the Central Records Unit, room B8024 of the main Commerce building. In addition, a complete version of the Issues and Decision Memorandum is available at http://enforcement.trade.gov/frn/index.html. The signed and electronic versions of the Issues and Decision Memorandum are identical in content.

³ See Memorandum, “Issues and Decision Memorandum for the Final Affirmative Determination in the Less-Than-Fair-Value Investigation of Ceramic Tile from the People's Republic of China,” dated concurrently with, and hereby adopted by, this notice (Issues and Decision Memorandum).

Period of Investigation

The period of investigation is October 1, 2018 through March 31, 2019.

Scope of the Investigation

The scope of the investigation covers ceramic tile from China. For a complete description of the scope of the investigation, see Appendix I.

Scope Comments

On September 6, 2019, Commerce issued a Preliminary Scope Decision Memorandum.⁴ Several interested parties submitted case and rebuttal briefs concerning the scope of this investigation. For a summary of the product coverage comments and rebuttal comments submitted to the record for this final determination, and accompanying discussion and analysis of all comments timely received, see the Final Scope Decision Memorandum.⁵ Based on the comments received, Commerce is not modifying the scope language as it appeared in the Preliminary Determination. The scope in Appendix I remains unchanged from that which appeared in the Preliminary Determination.

⁴ See Memorandum, “Ceramic Tile from the People's Republic of China: Scope Comments Decision Memorandum for the Preliminary Determinations,” dated September 6, 2019 (Preliminary Scope Decision Memorandum).

⁵ See Memorandum, “Ceramic Tile from the People's Republic of China: Scope Decision Memorandum for the Final Determinations,” dated concurrently with this notice (Final Scope Decision Memorandum).

Analysis of Comments Received

All issues raised in the case and rebuttal briefs by parties in this investigation are discussed in the Issues and Decision Memorandum. A list of the issues that parties raised in the Issues and Decision Memorandum is attached to this notice as Appendix II.

Verification

As provided in section 782(i) of the Tariff Act of 1930, as amended (the Act), Commerce conducted verification of the information submitted by Belite for use in the final determination. We used standard verification procedures, including an examination of relevant accounting records and original source documents provided by Belite.⁶ We did not conduct verification of Foshan Sanfi because it withdrew from participation in verification.⁷

⁶ See Memorandum, “Verification of the Questionnaire Responses of Belite Ceramics (Anyang) Co., Ltd., in the Antidumping Investigation of Ceramic Tile from the People's Republic of China,” dated January 6, 2020.

⁷ See Foshan Sanfi's Letter, “Ceramic Tile from the People's Republic of China—Notice of Intention Not to Participate in Verification,” dated November 22, 2019.

Adverse Facts Available (AFA)

For the reasons explained in the Preliminary Determination, we continue to find that the use of AFA, pursuant to sections 776(a) and (b) of the Act, is warranted in determining the rate for the China-wide entity.⁸ In selecting the AFA rate for the China-wide entity, Commerce's practice is to select a rate that is sufficiently adverse to ensure that the uncooperative party does not obtain a more favorable result by failing to cooperate than if it had fully cooperated.⁹ For the final determination, we are assigning the China-wide entity, as AFA, the rate of 356.02 percent, which is the highest petition rate.¹⁰

⁸ See Preliminary Determination PDM at 20-22.

⁹ See, e.g., Notice of Preliminary Determination of Sales at Less Than Fair Value and Postponement of Final Determination: Purified Carboxymethyl Cellulose from Finland, 69 FR 77216 (December 27, 2004), unchanged in Notice of Final Determination of Sales at Less Than Fair Value: Purified Carboxymethyl Cellulose from Finland, 70 FR 28279 (May 17, 2005).

¹⁰ See Issues and Decision Memorandum at 3.

Critical Circumstances

As explained in the Issues and Decision Memorandum, we find that critical circumstances exist for imports of ceramic tile from the China-wide entity pursuant to sections 735(a)(3)(A) and (B) of the Act and 19 CFR 351.206. With respect to the separate rate companies, we continue to find that the U.S. Census Bureau data provided by the petitioner in its critical circumstances allegation ¹¹ does not show that imports of subject merchandise were massive during a relatively short period, and that critical circumstances do not exist for imports of ceramic tile from the separate rate companies pursuant to sections 735(a)(3)(A) and (B) of the Act and 19 CFR 351.206.

¹¹ See Preliminary Determination PDM at “Critical Circumstances.”

Separate Rates

Generally, Commerce looks to section 735(c)(5)(A) of the Act, which provides instructions for calculating the all-others rate in a market economy antidumping duty (AD) investigation, for guidance when calculating the rate for separate rate respondents that we did not individually examine in a non-market economy AD investigation. Section 735(c)(5)(A) of the Act states that the estimated all-others rate shall be an amount equal to the weighted average of the estimated weighted average dumping margins established for exporters and producers individually investigated, excluding any margins that are zero, de minimis, or determined entirely on the basis of facts available.¹²

¹² See, e.g., Ball Bearings and Parts Thereof from France, Germany, Italy, Japan, and the United Kingdom: Final Results of Antidumping Duty Administrative Reviews and Rescission of Reviews in Part, 73 FR 52823, 52824 (September 11, 2008), and accompanying Issues and Decision Memorandum (IDM) at Comment 16.

As discussed in the Issues and Decision Memorandum,¹³ Belite and Foshan Sanfi have not received a separate rate for the final determination and, thus, are part of the China-wide entity. As such, we have assigned the average of the rates found in the Petition ¹⁴ as the rate for non-individually examined companies that have qualified for a separate rate.¹⁵

¹³ See IDM at Comments 1-2.

¹⁴ See Petitioner's Letter, “Petition for the Imposition of Antidumping Duties on Imports of Ceramic Tile from the People's Republic of China,” dated April 10, 2019 (the Petition) and the Petition Supplement at Exhibit II-21.

¹⁵ See IDM at Comment 3.

Final Determination

The final estimated weighted-average dumping margins are as follows:

Exporter | Producer | Estimated weighted- average dumping margin (percent) | Cash deposit rate (adjusted for subsidy offsets) (percent)
Anatolia Tile & Stone Inc | Hubei ASA Ceramics Co., Ltd | 229.04 | 203.71
| Guangdong Bode Fine Building Material Co., Ltd | 229.04 | 203.71
| Foshan Mona Decoration Material Co., Ltd. (DBA Guang Dong Bo Hua Ceramics Co., Ltd.) | 229.04 | 203.71
| Heyuan Dongyuan Eagle Branch Ceramics Ltd | 229.04 | 203.71
| Foshan Gold Medal Ceramics International Trade Co., Ltd | 229.04 | 203.71
| Greens Patio Workshop Co., Ltd | 229.04 | 203.71
| Fujian Huatai Group Co., Ltd | 229.04 | 203.71
| Foshan Tianyao Ceramics Co., Ltd | 229.04 | 203.71
| Foshan Ibel Import and Export Ltd | 229.04 | 203.71
| Max Glory International Limited | 229.04 | 203.71
| Foshan Leo Import and Export Trading Co., Ltd | 229.04 | 203.71
| Guangdong Mona Lisa Trading Co., Ltd | 229.04 | 203.71
| Foshan Amosa International Business Company | 229.04 | 203.71
| Foshan Yonglie Export and Import Company Limited | 229.04 | 203.71
| Elegance International Inc | 229.04 | 203.71
| Foshan International Trade Co., Ltd | 229.04 | 203.71
| Foshan Rhino Building Materials Co., Ltd | 229.04 | 203.71
| Foshan Romantic Ceramics Co., Ltd | 229.04 | 203.71
| Heyuan Romantic Ceramics Co., Ltd | 229.04 | 203.71
| Pingxiang Dacheng Ceramics Technology Co., Ltd | 229.04 | 203.71
| Jingdezhen Seed Ceramic Co., Ltd | 229.04 | 203.71
| Foshan Xinfu Imp. & Exp. Co., Ltd | 229.04 | 203.71
| Foshan Nah Hai Sky Glass Mosaic Limited | 229.04 | 203.71
| Super Building Material Co., Ltd. (Xiamen) | 229.04 | 203.71
| Foshan Tong Hai International Import and Export Trading Corporation Limited | 229.04 | 203.71
| Rabbit Song Building Material Co., Ltd | 229.04 | 203.71
Avangarde Ceramiche | Fujian Nan'an Xinglong Ceramics Co., Ltd | 229.04 | 203.71
| Guangdong Jiajun Ceramics Co., Ltd | 229.04 | 203.71
Beijing Shiji Mingtai Inc | Jinjiang Guoxing Ceramics Building Materials Co., Ltd | 229.04 | 203.71
| Fujian Honghua Group Co., Ltd | 229.04 | 203.71
| Fujian Zhangzhou Jianhua Ceramics Co., Ltd | 229.04 | 203.71
| Foshan Dongpeng Ceramics Co., Ltd | 229.04 | 203.71
| Fujian Huatai Group Co., Ltd | 229.04 | 203.71
| Quanzhou Zhiran Ceramics Co., Ltd | 229.04 | 203.71
| Quanzhou Yuanlong Building Materials Development Co., Ltd | 229.04 | 203.71
| Fujian Xindezhou Ceramics Co., Ltd | 229.04 | 203.71
| Jinjiang Juntao Ceramics Industry Co., Ltd | 229.04 | 203.71
Bestview (Fuzhou) Import & Export Co. Ltd | Foshan Lanyu Building Material Co. Ltd | 229.04 | 203.71
| Tianjin Belite Ceramics Co., Ltd Foshan Branch | 229.04 | 203.71
| Jingdezhen Leixi Building Material Factory | 229.04 | 203.71
| Foshan Nanhai District Energy Building Material Co., Ltd | 229.04 | 203.71
Buddy Mosaic Limited | Foshan Tanhua Building Material Co., Ltd | 229.04 | 203.71
China Stone Limited | Qingyuan MegaCera Ceramic Co., Ltd | 229.04 | 203.71
| Foshan Kovic Import and Export Co., Ltd | 229.04 | 203.71
Dongguan City Wonderful Ceramics Industrial Park Co., Ltd | Dongguan City Wonderful Ceramics Industrial Park Co., Ltd | 229.04 | 203.71
Dongguan City Wonderful Decoration Materials Co., Ltd | Dongguan City Wonderful Decoration Materials Co., Ltd | 229.04 | 203.71
Dox Building Materials Co., Limited | White Rabbit Ceramics Co., Ltd | 229.04 | 203.71
| Rabbit Song Building Material Co., Ltd | 229.04 | 203.71
Elegance International Inc | Tegaote Ceramics Co., Ltd | 229.04 | 203.71
| Foshan Nanhai District Zhengbin New Materials Co., Ltd | 229.04 | 203.71
|  | 229.04 | 203.71
Everstone Industry (Qingdao) Co., Ltd |  | 229.04 | 203.71
Foshan Ant Buying Service Co., Ltd | Foshan Xindonglong Ceramic Co., Ltd | 229.04 | 203.71
| Foshan Shiwan Yulong Ceramic Co., Ltd | 229.04 | 203.71
| Heshan Heqiang Art China & Dinnerware Co., Ltd | 229.04 | 203.71
| Foshan Kingfer Building Material Co., Ltd | 229.04 | 203.71
| Luoding Junhua Ceramics Industrial Co., Ltd | 229.04 | 203.71
| Foshan Xinamei Material Co., Ltd | 229.04 | 203.71
| Foshan Be Tf Fu Decorative Material Co., Ltd | 229.04 | 203.71
| Foshan Verona Borde Co., Ltd | 229.04 | 203.71
| Jiangmen Xuri Ceramic Co., Ltd | 229.04 | 203.71
| Foshan Yongzhuo Material Co., Ltd | 229.04 | 203.71
| Sihui Jiefeng Material Co., Ltd | 229.04 | 203.71
| Foshan Caidian Material Co., Ltd | 229.04 | 203.71
Foshan Artist Ceramics Co., Ltd | Sheng Taoju Ceramics | 229.04 | 203.71
| Zhaoqing Langfeng Ceramics Co., Ltd | 229.04 | 203.71
| Zhong Rong Ceramic Building Materials Co., Ltd | 229.04 | 203.71
| Foshan Xindonglong Ceramic Co., Ltd | 229.04 | 203.71
| Guangxi Jinmen Building Material Co., Ltd | 229.04 | 203.71
| Fujian Lvdao Ecology Technology Co., Ltd | 229.04 | 203.71
| Guangdong Fangxiang Ceramic Co., Ltd | 229.04 | 203.71
| Foshan Nanhai Yuda Ceremics Co., Ltd | 229.04 | 203.71
| Xinxing County Jin Mali Ceramics Co., Ltd | 229.04 | 203.71
| Foshan Chancheng Lijiahua Ceramics Co., Ltd | 229.04 | 203.71
| Foshan City Nanhai Junhong Ceramic Decoration Material Co., Ltd | 229.04 | 203.71
Foshan Atpalas Ceramics Co., Ltd | Foshan Yuanzhen Building Materials Co., Ltd | 229.04 | 203.71
Foshan CTC Group Co., Ltd | Guangdong Jiajun Ceramics Co., Ltd | 229.04 | 203.71
Foshan Disong Trading Co., Ltd | Zhaoqing Xinciyu Ceramics Co., Ltd | 229.04 | 203.71
Foshan Dolphin Trading Co., Ltd | Foshan Shiwan Yulong Ceramic Co., Ltd | 229.04 | 203.71
| Si Hui Jiefeng Decoration Materials Co., Ltd | 229.04 | 203.71
| Dongguan City Wonderful Ceramics Industrial Park Co., Ltd | 229.04 | 203.71
| Luoding Junhua Ceramics Industrial Co., Ltd | 229.04 | 203.71
| Guangdong Bode Fine Building Material Co., Ltd | 229.04 | 203.71
| Kaiping Tilee's Building Materials Co., Ltd | 229.04 | 203.71
| Zhuhai Xuri Ceramics Co., Ltd | 229.04 | 203.71
| Foshan Top Black Ceramics Co., Ltd | 229.04 | 203.71
| Guangdong Xinruncheng Ceramics Co., Ltd | 229.04 | 203.71
| Heyuan Romantic Ceramics Co., Ltd | 229.04 | 203.71
| Guangdong Xiejin Ceramics Co., Ltd | 229.04 | 203.71
| Liling Dolphin Ceramics Co., Ltd | 229.04 | 203.71
| Foshan Oceano Ceramics Co., Ltd | 229.04 | 203.71
| Kaiping Lihang Building Materials Co., Ltd | 229.04 | 203.71
| Hunan Tianxin Technology Co., Ltd | 229.04 | 203.71
| Oyg Glass Spar Decoration Materials Co., Ltd | 229.04 | 203.71
Foshan Dongpeng Ceramic Co., Ltd | Qingyuan Nafuna Ceramics Co., Ltd | 229.04 | 203.71
| Fengcheng Dongpeng Ceramics Co., Ltd | 229.04 | 203.71
| Lixian Xinpeng Ceramic Co., Ltd | 229.04 | 203.71
| Foshan Donghuashengchang New Material Co., Ltd | 229.04 | 203.71
Foshan Dongxin Economy And Trade Co., Ltd | Zhangzhou Aoli Ceramic Development Co., Ltd | 229.04 | 203.71
Foshan Eiffel Ceramic Co., Ltd | Foshan Bubuking Decorating Techniques Co., Ltd | 229.04 | 203.71
| Guangdong Shenghui Ceramics Co., Ltd | 229.04 | 203.71
| Qingyuan Baoshima Ceramics Co., Ltd | 229.04 | 203.71
Foshan Eminent Industry Development Co., Ltd | Foshan Huanqiu Ceramics Co., Ltd | 229.04 | 203.71
Foshan Everstone Import & Export Co., Ltd | Foshan Gani Ceramics Co., Ltd | 229.04 | 203.71
Foshan Gani Ceramics Co., Ltd | Qingyuan Gani Ceramics Co., Ltd | 229.04 | 203.71
Foshan Gold Medal Ceramics International Trade Co., Ltd | Guangdong Goldmedal Ceramics Co., Ltd | 229.04 | 203.71
Foshan Griffiths Building Material Ltd | Foshan Lihua Ceramics Co., Ltd | 229.04 | 203.71
Foshan Hudson Economics And Trade Co., Ltd | Guangdong Kito Ceramics Group Co., Ltd | 229.04 | 203.71
| Foshan Shiwan Eagle Brand Ceramic Co., Ltd | 229.04 | 203.71
| Guangdong Overland Ceramics Co., Ltd | 229.04 | 203.71
| Guangdong Bode Fine Building Material Co., Ltd | 229.04 | 203.71
| Foshan Yuanmei Craft Ceramics Factory | 229.04 | 203.71
| Foshan Nanhai Yuheng Decorative Material Co., Ltd | 229.04 | 203.71
| Guangzhou Cowin New Materials Co., Ltd | 229.04 | 203.71
| Guangdong Kito Trading Co., Ltd | 229.04 | 203.71
Foshan International Trade Co., Ltd | Foshan B&W Ceramics Co., Ltd | 229.04 | 203.71
| Fogang Tongqing Ceramics Co., Ltd | 229.04 | 203.71
Foshan Junjing Industrial Co., Ltd | Guangdong Jialian Enterprise Ceramics Co., Ltd | 229.04 | 203.71
| Foshan Jinhong Ceramics Co., Ltd | 229.04 | 203.71
| Foshan Jinyi Ceramics Co., Ltd | 229.04 | 203.71
| Foshan Nanhai Longpeng Vitrified Brick Co., Ltd | 229.04 | 203.71
| Foshan Chancheng Oldenburg Ceramics Co., Ltd | 229.04 | 203.71
| Fujian Nan'an Baoda Building Material Co., Ltd | 229.04 | 203.71
| Guangdong Baiqiang Ceramics Co., Ltd | 229.04 | 203.71
| Guangdong Bode Fine Building Material Co., Ltd | 229.04 | 203.71
| Foshan Huicheng Building Material Co., Ltd | 229.04 | 203.71
| Foshan Jialeshi Building Material Co., Ltd | 229.04 | 203.71
| Guangdong Jiamei Ceramics Co., Ltd | 229.04 | 203.71
| Jiangxi Shiwan Global Ceramics Co., Ltd | 229.04 | 203.71
| Xinxing County Jinmaili Ceramics Co., Ltd | 229.04 | 203.71
| Foshan Lailida Building Material Co., Ltd | 229.04 | 203.71
| Fujian Mingsheng Ceramic Development Co., Ltd | 229.04 | 203.71
| Foshan Qiangshengda Building Material Co., Ltd | 229.04 | 203.71
| Guangdong Shenghui Ceramics Co., Ltd | 229.04 | 203.71
| Guangdong Xiejin Ceramics Co., Ltd | 229.04 | 203.71
| Qingyuan Xinjinshan Ceramics Co., Ltd | 229.04 | 203.71
| Sihui Quanquan Ceramics Co., Ltd | 229.04 | 203.71
| Enping Xiangda Ceramics Co., Ltd | 229.04 | 203.71
| Foshan Xinhenglong Polishing Brick Co., Ltd | 229.04 | 203.71
| Enping Xinjincheng Ceramics Co., Ltd | 229.04 | 203.71
| Guangdong Xinruncheng Ceramics Co., Ltd | 229.04 | 203.71
| Foshan Shiwan Yulong Ceramics Co., Ltd | 229.04 | 203.71
| Jiangmen Xinxingwei Building Material Co., Ltd | 229.04 | 203.71
| Jinjiang Zhongrong Ceramic Building Material Co., Ltd | 229.04 | 203.71
Foshan Kiva Ceramics Co., Ltd | Guangdong Xinruncheng Ceramic Co., Ltd | 229.04 | 203.71
| Foshan Nanhai Yuda Ceramic Co., Ltd | 229.04 | 203.71
| Guangdong Shenghui Ceramic Co., Ltd | 229.04 | 203.71
| Guangdong Kito Ceramic Trading Co., Ltd | 229.04 | 203.71
| Zhaoqing Jincheng Ceramic Co., Ltd | 229.04 | 203.71
| Guangdong Yongsheng Ceramic Co., Ltd | 229.04 | 203.71
| Foshan Jialeshi Building Materials Co., Ltd | 229.04 | 203.71
| Guangxi Yaou Ceramics Co., Ltd | 229.04 | 203.71
| Foshan Nanhai Xinya Ceramic Co., Ltd | 229.04 | 203.71
Foshan Leo Import and Export Trading Co., Ltd | Foshan Jingmeida Ceramics Procuct Co., Ltd | 229.04 | 203.71
| Fujian Yuekai Building Materials Industry Co., Ltd | 229.04 | 203.71
| Guangxi Hengxi Building Materials Co., Ltd | 229.04 | 203.71
| Foshan Shiwan Yulong Ceramic Co., Ltd | 229.04 | 203.71
| Chaoyang Rongfu Ceramics Co., Ltd | 229.04 | 203.71
| Xianning Xianzhuanjiang Building Materials Co., Ltd | 229.04 | 203.71
| Jiangxi Jingcheng Ceramics Co., Ltd | 229.04 | 203.71
| Jiangxi Wifi Ceramics Co., Ltd | 229.04 | 203.71
| Guangdong Jiajun Ceramics Co., Ltd | 229.04 | 203.71
| Foshan Giania Ceramics Co., Ltd | 229.04 | 203.71
Foshan Ligaote Ceramics Co., Ltd | Foshan Ligaote Ceramics Co., Ltd | 229.04 | 203.71
Foshan Livin Ceramics Co., Ltd | Zhaoqing Jinhang Ceramics Co., Ltd | 229.04 | 203.71
| Cenxi Lianchuang Ceramics Co., Ltd | 229.04 | 203.71
Foshan Mainland Import and Export Co., Ltd | Fujian Nanan Baoda Building Materials Co., Ltd | 229.04 | 203.71
| Fujian Jinjiang Baoda Ceramics Co., Ltd | 229.04 | 203.71
| Nan'an Xiejin Building Material Commercial Firm | 229.04 | 203.71
| Nan'an Xiejin Building Materials Co., Ltd | 229.04 | 203.71
| Fujian Honghua Group Co., Ltd | 229.04 | 203.71
| Fujian Xindezhou Ceramics Co., Ltd | 229.04 | 203.71
Foshan Medici Building Material Co., Ltd | Chaoyang Rongfu Ceramic Tile Co., Ltd | 229.04 | 203.71
| Jianping Jinzheng Ceramic Tile Co., Ltd | 229.04 | 203.71
| Fujian Yuekai Building Material Co., Ltd | 229.04 | 203.71
| Fuzhou Hengyu Ceramic Tile Co., Ltd | 229.04 | 203.71
| Fujian Minqing Ouya Ceramic Tile Co., Ltd | 229.04 | 203.71
| Foshan Lazio Building Material Co., Ltd | 229.04 | 203.71
| Zhaoqing Gaoyao Guangfu Ceramic Tile Co., Ltd | 229.04 | 203.71
Foshan Muzzi Decor And Tile Co., Ltd | Pingxiang Dacheng Ceramics Technologies Co., Ltd | 229.04 | 203.71
Foshan Oceanland Ceramics Co., Ltd | Foshan Super Ceramics Co., Ltd | 229.04 | 203.71
| Qingyuan Baoshima Ceramic Co., Ltd | 229.04 | 203.71
| Xinxing Jianxing Ceramics Co., Ltd | 229.04 | 203.71
| Enping Quansheng Ceramics Co., Ltd | 229.04 | 203.71
| Guangdong Shenghui Ceramics Co., Ltd | 229.04 | 203.71
Foshan Paramount Import and Export Co., Ltd | Foshan Ligaote Ceramics Co., Ltd | 229.04 | 203.71
| Foshan Nanhai District Energy Building Material Co., Ltd | 229.04 | 203.71
| Foshan Shiwan Yulong Ceramic Co., Ltd | 229.04 | 203.71
| Luoding Junhua Ceramics Industrial Co., Ltd | 229.04 | 203.71
| Guangdong Bode Fine Building Material Co., Ltd | 229.04 | 203.71
Foshan Porcelain Plaza Trading Co., Ltd | Foshan Ottima Ceramic Co., Ltd | 229.04 | 203.71
| Foshan Dongpeng Ceramic Co., Ltd | 229.04 | 203.71
| Jinjiang City Zhongrong Ceramic Building Material Co., Ltd | 229.04 | 203.71
| Foshan Bannilu Ceramic Co., Ltd | 229.04 | 203.71
| Foshan Yibaiwang Building Material Co., Ltd | 229.04 | 203.71
Foshan Qualicer Industrial Co., Ltd | Guangzhou Cowin New Materials Co., Ltd | 229.04 | 203.71
Foshan Rainbow Color Export & Import Co., Ltd | Foshan Baleno Ceramic Co., Ltd | 229.04 | 203.71
| Foshan Ligaote Ceramic Co., Ltd | 229.04 | 203.71
| Heshan Heqiang Art China & Dinnerware Co., Ltd | 229.04 | 203.71
| Jiangmen Xuri Ceramic Co., Ltd | 229.04 | 203.71
| Foshan Shiwan Yulong Ceramic Co., Ltd | 229.04 | 203.71
| Foshan Jingmeida Ceramic Products Co., Ltd | 229.04 | 203.71
Foshan Rhino Building Materials Co., Ltd | Guangdong Gold Medal Ceramics Co., Ltd | 229.04 | 203.71
| Chaoyang Rong Fu Ceramic Co., Ltd | 229.04 | 203.71
Foshan Romantic Ceramics Co., Ltd | Heyuan Romantic Ceramics Co., Ltd | 229.04 | 203.71
| Pingxiang Dacheng Ceramics Technology Co., Ltd | 229.04 | 203.71
Foshan Saiguan Import & Export Co., Ltd | Saifei (Guangdong) New Materials Co., Ltd | 229.04 | 203.71
FoShan San Honore Imp & Exp Co., Ltd | Quanzhou Zhiran Ceramics Company Ltd | 229.04 | 203.71
| Fujian Zunwei Ceramics Company Ltd | 229.04 | 203.71
Foshan Sanden Enterprise Co., Ltd | Tegaote Ceramics Co., Ltd | 229.04 | 203.71
| Zhaoqing Langfeng Ceramics Co., Ltd | 229.04 | 203.71
| Guangzhou Cowin New Materials Co., Ltd | 229.04 | 203.71
| Foshan Chengke New Material Co., Ltd | 229.04 | 203.71
| Foshan Jingmeida Ceramics Co., Ltd | 229.04 | 203.71
Foshan Shangking Group Co., Ltd | Guangdong Qianghui (QHTC) Ceramics Co., Ltd | 229.04 | 203.71
Foshan Shiwan Yulong Ceramic Co., Ltd | Foshan Shiwan Yulong Ceramic Co., Ltd | 229.04 | 203.71
Foshan Sincere Building Materials Co., Ltd | Foshan City Lihua Ceramic Co., Ltd | 229.04 | 203.71
| Enping City Huachang Ceramic Co., Ltd | 229.04 | 203.71
Foshan Soaraway Industrial Co., Ltd | Foshan Shiwan Yulong Ceramic Co., Ltd | 229.04 | 203.71
| Foshan Tai-Decor Decoraiton Materials Co., Ltd | 229.04 | 203.71
Foshan Sumso Construction Materials Co., Ltd | Foshan Laili Ceramics Co., Ltd | 229.04 | 203.71
Foshan Sundare Building Materials Co., Ltd | Foshan Qingyuan Baoshima Co., Ltd | 229.04 | 203.71
| Foshan New Henglong Polished Tiles Co., Ltd | 229.04 | 203.71
| Foshan Nanhai Xinyiya Decoration Materials Co., Ltd | 229.04 | 203.71
Foshan Sunvin Ceramics Co., Ltd | Sihui Jie Feng Decoration Materials Co., Ltd | 229.04 | 203.71
Foshan Tbs Trading Co., Ltd | Foshan Jiameisheng Ceramic Co., Ltd | 229.04 | 203.71
| Qingyuan Xinjinshan Ceramics Co., Ltd | 229.04 | 203.71
| Zhuhai Xuri Ceramics Co., Ltd | 229.04 | 203.71
| Foshan Elephome Ceramics Co., Ltd | 229.04 | 203.71
| Jinjiang Zhongrong Ceramics Of Build Material Co., Ltd | 229.04 | 203.71
| Quanzhou Yuanlong Building Materials Development Co., Ltd | 229.04 | 203.71
| Fujian Honghua Group Co., Ltd | 229.04 | 203.71
| Foshan Nanhai Jinzhilan Decoration Material Co., Ltd | 229.04 | 203.71
| Jinjiang Guoxing Ceramic Building Material Co., Ltd | 229.04 | 203.71
| Guangdong Yongsheng Ceramics Co., Ltd | 229.04 | 203.71
| Heyuan Romanic Ceramics Co., Ltd | 229.04 | 203.71
| Zhaoqing Jinhang Ceramics Co., Ltd | 229.04 | 203.71
| Foshan Yibao Ceramics Co., Ltd | 229.04 | 203.71
| Qingyuan Ouya Ceramic Co., Ltd | 229.04 | 203.71
| Foshan Top Black Ceramics Co., Ltd | 229.04 | 203.71
| Guangdong Jialian Enterprise Ceramics Co., Ltd | 229.04 | 203.71
| Sihui City Xin Quan Ye Ceramics Co., Ltd | 229.04 | 203.71
| Guangdong Hemei Ceramic Co., Ltd | 229.04 | 203.71
| Fujian Jinjiang Lianxing Building Materials Co., Ltd | 229.04 | 203.71
| Foshan New Yidian Ceramic Co., Ltd | 229.04 | 203.71
Foshan Tianyao Ceramics Co., Ltd | Guangdong Sihui Kedi Ceramics Co., Ltd | 229.04 | 203.71
Foshan Uni-Depot Porcelanico Co., Ltd | Guangdong Tianbi Ceramicsco., Ltd | 229.04 | 203.71
Foshan United Export Co., Ltd | Guangdong Shenghui Ceramics Co., Ltd | 229.04 | 203.71
| Guangdong Zhongsheng Ceramics Co., Ltd | 229.04 | 203.71
| Fujian Honghua Group Co., Ltd | 229.04 | 203.71
| Guangdong Godbet Ceramics Co., Ltd | 229.04 | 203.71
| Fujian Nan'an Baoda Building Material Co. Ltd | 229.04 | 203.71
| Zhangzhou City Aoli Ceramic Development Co., Ltd | 229.04 | 203.71
Foshan Viewgres Co., Ltd | Guangdong Bohua Ceramics Co., Ltd | 229.04 | 203.71
| Shandong Tongyi Ceramics Science & Technology Co., Ltd | 229.04 | 203.71
| Shandong Green Ceramics Co., Ltd | 229.04 | 203.71
| Ginca Ceramics Co., Ltd | 229.04 | 203.71
| Xiejin Ceramics Co., Ltd | 229.04 | 203.71
| Foshan Yigao Ceramic Co., Ltd | 229.04 | 203.71
| Enping City Huachang Ceramic Company Limited | 229.04 | 203.71
| Guangzhou Cowin New Materials Co., Ltd | 229.04 | 203.71
| Kaiping Kunen Building Materials Co., Ltd | 229.04 | 203.71
Foshan Walton Building Materials Co., Ltd | Belite Ceramics (Anyang) Co., Ltd | 229.04 | 203.71
| Lianxing Ceramics Co., Ltd | 229.04 | 203.71
| Foshan Yibao Ceramics Co., Ltd | 229.04 | 203.71
| Foshan Gaosheng Building Materials Co., Ltd | 229.04 | 203.71
| Foshan Shiwan Eagle Brand Ceramic Co., Ltd | 229.04 | 203.71
| Xingning Toscana Ceramics Co., Ltd | 229.04 | 203.71
Foshan Winbill Trading Company Limited | Guangdong Yonghang Advanced Materials Industrial Co., Ltd | 229.04 | 203.71
Foshan Yinghui Industrial Co., Ltd | Heshan Heqiang Art China & Dinnerware Co., Ltd | 229.04 | 203.71
Fujian Minmetals Cbm Co., Ltd | Fujian Minqing Ouya Ceramic Tile Co., Ltd | 229.04 | 203.71
| Xinxing Jianxing Ceramics Co., Ltd | 229.04 | 203.71
| Tianjin Belite Ceramics Co., Ltd. Foshan Branch | 229.04 | 203.71
Fujian Minqing Hao Ye Ceramics Co., Ltd | Fujian Minqing Hao Ye Ceramics Co., Ltd | 229.04 | 203.71
Fuzhou Shuangxin Ceramic Co., Ltd | Fujian Xindezhou Ceramic Co., Ltd | 229.04 | 203.71
| Fujian Nan'an Baoda Building Material Co., Ltd | 229.04 | 203.71
| Fujian Zhuangyi Building Material Co., Ltd | 229.04 | 203.71
| Zhangzhou Aoli Ceramic Development Co., Ltd | 229.04 | 203.71
Gearex Corporation | Kaiping Tilee's Building Materials Co., Ltd | 229.04 | 203.71
| Foshan Oceano Ceramics Co., Ltd | 229.04 | 203.71
| Jingdezhen Oceano Ceramics Co., Ltd | 229.04 | 203.71
| Guangdong Xinruncheng Ceramics Co., Ltd | 229.04 | 203.71
| Foshan Kioro Trade Co., Ltd | 229.04 | 203.71
| Zhaoqing Xinhe Ceramics Co., Ltd | 229.04 | 203.71
| Fogang Tongqing Ceramics Co., Ltd | 229.04 | 203.71
| Foshan Bolier Building Materials Co., Ltd | 229.04 | 203.71
| Guandong Kasor Ceramics Technology Co., Ltd | 229.04 | 203.71
| Max Glory International Ltd | 229.04 | 203.71
| Rongfu Ceramics Co., Ltd | 229.04 | 203.71
| Tegaote Ceramics Co., Ltd | 229.04 | 203.71
| Elegance International Inc | 229.04 | 203.71
| Foshan Shiwan Yulong Ceramic Co., Ltd | 229.04 | 203.71
| Foshan Top-Black Ceramic Co., Ltd | 229.04 | 203.71
| Kim Hin Ceramics (Shanghai) Co., Ltd | 229.04 | 203.71
| Jiangxi Province Shiwan Huanqiu Ceramics Co., Ltd | 229.04 | 203.71
| Foshan Huanqiu Ceramics Co., Ltd | 229.04 | 203.71
| Foshan Leo Import And Export Trading Co., Ltd | 229.04 | 203.71
| Gearex Technical Ceramic Kun Shan Co., Ltd | 229.04 | 203.71
Global Trading Co., Ltd | Guangdong Kito Ceramic Trading Co., Ltd | 229.04 | 203.71
Guangdong Bode Fine Building Material Co | Guangdong Bode Fine Building Material Co | 229.04 | 203.71
Guangdong Jiajun Ceramics Co., Ltd | Guangdong Jiajun Ceramics Co., Ltd | 229.04 | 203.71
Guangdong Jiamei Ceramics Co., Ltd | Guangdong Jiamei Ceramics Co., Ltd | 229.04 | 203.71
Guangdong Jinying Import & Export Co., Ltd | Guangdong Sheng Hui Ceramics Co., Ltd | 229.04 | 203.71
| Xingning Toscana Ceramics Co., Ltd | 229.04 | 203.71
| Guangdong Jialian Enterprise Ceramics Co., Ltd | 229.04 | 203.71
| Jiangxi Shiwan Huanqiu Ceramics Co., Ltd | 229.04 | 203.71
Guangdong Kito Ceramics Group Co., Ltd | Jingdezhen Kito Ceramic Co., Ltd | 229.04 | 203.71
| Foshan Sanshui Kito Ceramic Co., Ltd | 229.04 | 203.71
| Guangdong Gold Medal Ceramics Co., Ltd | 229.04 | 203.71
Guangdong Monalisa Trading Co., Ltd | Monalisa Group Co., Ltd | 229.04 | 203.71
Guangdong Overland Ceramics Co., Ltd | Guangdong Overland Ceramics Co., Ltd | 229.04 | 203.71
Guangdong Winto Ceramics Co., Ltd | Guangdong Homeway Ceramics Co., Ltd | 229.04 | 203.71
Hangzhou Nabel China Co., Ltd | Deqing Nabel Co., Ltd | 229.04 | 203.71
Heyuan Dongyuan Eagle Brand Ceramic Co., Ltd | Heyuan Dongyuan Eagle Brand Ceramic Co., Ltd | 229.04 | 203.71
Hoe Hin Building Materials Co., Limited | Foshan liangjian ceramics Co., Limited | 229.04 | 203.71
| Guangdong Bode Fine Building Material | 229.04 | 203.71
| Kaipingkunenbuilding Materials Co., Ltd | 229.04 | 203.71
| Zhaoqing Langfeng Ceramics Co., Ltd | 229.04 | 203.71
| Kaiping Tilee's Building Materials Co | 229.04 | 203.71
| Foshan Shanghui decoration material Co., Ltd | 229.04 | 203.71
| Tegaote Ceramics Co., Ltd | 229.04 | 203.71
| Fogang Tongqing Ceramics Co., Ltd | 229.04 | 203.71
| Guangdong Xinruncheng Ceramics Co., Ltd | 229.04 | 203.71
| Guangdong Simpire Building Material Co., Ltd | 229.04 | 203.71
| Foshan Newyidian Ceramic Co., Ltd | 229.04 | 203.71
| Foshan Shiwan Yulong Ceramic Co; Ltd | 229.04 | 203.71
Hong Kong Kito Cerarnic Co., Limited | Guangdong Kito Ceramics Group Co., Ltd | 229.04 | 203.71
| Jingdezhen Kito Ceramic Co., Ltd | 229.04 | 203.71
| Foshan Sanshui Kito Ceramic Co., Ltd | 229.04 | 203.71
| Guangdong Gold Medal Ceramics Co., Ltd | 229.04 | 203.71
JDD Industry Co., Limited | Guangdong KITO Ceramics Group Co., Ltd | 229.04 | 203.71
| Guangdong KITO Trading Co., Ltd | 229.04 | 203.71
| Guangdong Bode Fine Building Material Co., Ltd | 229.04 | 203.71
| White Rabbit Ceramics Co., Ltd | 229.04 | 203.71
| Guangdong Xinruncheng Ceramics Co., Ltd | 229.04 | 203.71
| Heyuan Dongyuan Eagle Brand Ceramic Co., Ltd | 229.04 | 203.71
| Enping Jingye Ceramic Co., Ltd | 229.04 | 203.71
| Guangdong Shenghui Ceramics Co., Ltd | 229.04 | 203.71
| Zhaoqing Guoshi Enterprise Mingjia Ceramics Co., Ltd | 229.04 | 203.71
| Fogang Tongqing Ceramics Co., Ltd | 229.04 | 203.71
| Guangdong Overland Ceramics Co., Ltd | 229.04 | 203.71
| Dongguan City Wonderful Ceramics Industrial Park Co., Ltd | 229.04 | 203.71
| Dongguan City Wonderful Decoration Materials Co., Ltd | 229.04 | 203.71
| Guangdong Jiamei Ceramics Co., Ltd | 229.04 | 203.71
| Jiangxi Hemei Ceramics Co., Ltd | 229.04 | 203.71
| GuangDong Simpire Building Materials Co., Ltd | 229.04 | 203.71
| Fujian Chaosheng Ceramics Co., Ltd | 229.04 | 203.71
| Guangdong Tianbi Ceramics Co., Ltd | 229.04 | 203.71
Jiangxi Wifi Ceramics Co., Ltd | Jiangxi Sun Ceramics Co., Ltd | 229.04 | 203.71
Jingdezhen Kito Ceramic Co., Ltd | Jingdezhen Kito Ceramic Co., Ltd | 229.04 | 203.71
| Guangdong Gold Medal Ceramic Co., Ltd | 229.04 | 203.71
Jingdezhen Seed Ceramic Co., Ltd | Jingdezhen Seed Ceramic Co., Ltd | 229.04 | 203.71
Kaiping City China Trade Import & Export Co., Ltd | Kaiping Tilee's Building Materials Co., Ltd | 229.04 | 203.71
Kertiles (Foshan) Inc | Guangdong Shenghui Ceramics Co., Ltd | 229.04 | 203.71
| Bite Mosaic Co., Ltd | 229.04 | 203.71
| Foshan Nanhai Suode Mosaic Co., Ltd | 229.04 | 203.71
| Guangdong Xinruncheng Ceramics Co., Ltd | 229.04 | 203.71
| Foshan Jialeshi Building Co., Ltd | 229.04 | 203.71
| Foshan Lailida Ceramics Co., Ltd | 229.04 | 203.71
| Love Song Mosaic Co., Ltd | 229.04 | 203.71
| Linyi Aoda Ceramic Co., LTD | 229.04 | 203.71
| Toptiles International Shangdong Limited | 229.04 | 203.71
| Linyi Lianshun Cermaics Co., Ltd | 229.04 | 203.71
| Foshan Nanhai Yuda Ceramics Co., Ltd | 229.04 | 203.71
| Guangdong Yonghang New Materials Industry Co., Ltd | 229.04 | 203.71
| Guangdong Yongsheng Ceramics Co., Ltd | 229.04 | 203.71
| Foshan Viewgres Co., Ltd | 229.04 | 203.71
| Shandong Lion king Ceramics Science & Technology Company., Ltd | 229.04 | 203.71
| Quanzhou Minmetals Huayi Trading Co., Ltd | 229.04 | 203.71
| Heyuan Dongyuan Eagle Brand Ceramics Co., Ltd | 229.04 | 203.71
| Foshan Liangjian Ceramics Co., Ltd | 229.04 | 203.71
| Foshan Bull Ceramics Co., Ltd | 229.04 | 203.71
| Foshan Huiya Ceramics Co., Ltd | 229.04 | 203.71
| Foshan Jinmali Ceramics Co., Ltd | 229.04 | 203.71
| Shandong Qidu Ceramics Co., Ltd | 229.04 | 203.71
| Shandong Jiabao Ceramics Co., Ltd | 229.04 | 203.71
| Foshan Huan Qiu Ceramics | 229.04 | 203.71
| Jiangmen Xuri Ceramics Co., Ltd | 229.04 | 203.71
Kim Hin Ceramics (Shanghai) Co., Ltd | KIM HlN CERAMICS (SHANGHAI) CO., LTD | 229.04 | 203.71
McMarmocer Ceramics Limited | Guangdong Overland Ceramics Co., Ltd | 229.04 | 203.71
| Guangdong Yonghang New Materials Industry Co., Ltd | 229.04 | 203.71
| Guangdong Owenlai Ceramics Co., Ltd | 229.04 | 203.71
| Guangdong High Microcrystal Technology Co., Ltd | 229.04 | 203.71
| Foshan Shiwan Yulong Ceramics Co., Ltd | 229.04 | 203.71
Megacera Incorporation Limited | Foshan Giance Trading Co., Ltd | 229.04 | 203.71
| Foshan Accuwealth Trading Co., Ltd | 229.04 | 203.71
Modern Home Ceramics Co., Limited | Zibo Fengxia Ceramics Co., Ltd | 229.04 | 203.71
| Zibo Jin Yi Ceramics Co., Ltd | 229.04 | 203.71
Nanning Ying Jin Ling Trade Co., Ltd | Saifei (Guangdong) New Materials Co., Ltd | 229.04 | 203.71
| Guangdong Fuqiang Ceramic Co., Ltd | 229.04 | 203.71
| Foshan Rongyi Construction Materials Co., Ltd | 229.04 | 203.71
| Foshan Cizun Ceramics Co., Ltd | 229.04 | 203.71
| Guangdong Xie Jin Ceramics Co., Ltd | 229.04 | 203.71
New Zhong Yuan Ceramics Import & Export Co., Ltd. of Guangdong | Southern Building Materials and Sanitary Co., Ltd of Qingyuan City | 229.04 | 203.71
| Guangdong Luxury Micro-Crystal Stone Technology Co., Ltd | 229.04 | 203.71
| Jiangxi Fuligao Ceramics Co., Ltd | 229.04 | 203.71
| Hubei Baojiali Ceramics Co., Ltd | 229.04 | 203.71
Porschelain Building Materials Co., Ltd | Guangdong Gold Medal Ceramics Co., Ltd | 229.04 | 203.71
Qingdao Oriental Bright Trading Co., Ltd | Zibo Fengxia Ceramics Co., Ltd | 229.04 | 203.71
| Zibo Jin Yi Ceramics Co., Ltd | 229.04 | 203.71
Quanzhou Lans Ceramic Products Co., Ltd | Fujian Tilechina Industrial Co., Ltd | 229.04 | 203.71
| Quanzhou Yuanlong Building Materials Development Co., Ltd | 229.04 | 203.71
| Fujian Likai Ceramic Co., Ltd | 229.04 | 203.71
| Fujian Jinjiang Jincheng Ceramics Co., Ltd | 229.04 | 203.71
Rabbit Song Building Material Co., Ltd | White Rabbit Ceramics Co., Ltd | 229.04 | 203.71
Shandong Kingstone Ceramics Co., Ltd | Shandong Lianzhong Ceramics Co., Ltd | 229.04 | 203.71
| Shandong Shunwei Ceramics Co., Ltd | 229.04 | 203.71
| Zibo Xinyijin Ceramic Technology Co., Ltd | 229.04 | 203.71
Shanghai Gaudimila Import & Exporter Co., Ltd | Shanghai Gaudimila Construction Materials Co., Ltd | 229.04 | 203.71
Sinorock (Jiangxi) Co., Ltd | Fujian Huatai Group Co., Ltd | 229.04 | 203.71
Stota Ceramics Co., Ltd | Xingning Toscana Ceramics Co., Ltd | 229.04 | 203.71
| Foshan Xinyidian Colored Ceramics Co., Ltd | 229.04 | 203.71
| Foshan Sanshui Kaililai Craft Products Co., Ltd | 229.04 | 203.71
| Gaoyao Tegaote Chinaware Co., Ltd | 229.04 | 203.71
| Guangdong Shenghui Ceramics Co., Ltd | 229.04 | 203.71
| Foshan Yitao Building Materials Co., Ltd | 229.04 | 203.71
| Foshan Hangxin Building Materials Co., Ltd | 229.04 | 203.71
| Foshan Saize Decorative Materials Co., Ltd | 229.04 | 203.71
| Foshan Nanhai Suode Glass Technics Co., Ltd | 229.04 | 203.71
| Jiangmen Huatao Ceramics Co., Ltd | 229.04 | 203.71
Temgoo International Trading Limited | Xinxing Jianxing Ceramics Co., Ltd | 229.04 | 203.71
| Xinxingxian Yinghao Ceramics Co., Ltd | 229.04 | 203.71
| Zhaoqingshi Gaoyaoqu Xingda Ceramics Co., Ltd | 229.04 | 203.71
| Foshan Skyplanet Import & Export Co., Ltd | 229.04 | 203.71
The Tile Shop (Beijing) Trading Company, Ltd | Belite Ceramics (Anyang) Co., Ltd | 229.04 | 203.71
| Foshan Xindonglong Ceramic Co., Ltd | 229.04 | 203.71
| Quality Tile Co., Ltd | 229.04 | 203.71
Super Building Material Co., Ltd. (Xiamen) | Xiamen Aidi Building Materials Industry Co., Ltd | 229.04 | 203.71
| Zhangzhou Sage Building Material Technology Co., Ltd | 229.04 | 203.71
| Zhangzhou Huitai Building Materials Technology Co., Ltd | 229.04 | 203.71
| Quanzhou Zhengyifang Ceramic Technology Co., Ltd | 229.04 | 203.71
| Foshan Nanhai Meitian Glass Technology Co., Ltd | 229.04 | 203.71
| Yunfu Jiapeng Stone Co., Ltd | 229.04 | 203.71
| Foshan Debang Building Material Co., Ltd | 229.04 | 203.71
| Foshan Longjing Decoration Materials Co., Ltd | 229.04 | 203.71
Yekalon Industry Inc | Fujian Minqing Tenglong Ceramics Co., Ltd | 229.04 | 203.71
| Romantic Ceramics Co., Ltd | 229.04 | 203.71
| Foshan Shiwan Eagle Brand Ceraminc Ltd | 229.04 | 203.71
| Fujian Hongxing Ceramic Development Co., Ltd | 229.04 | 203.71
| Fujian Zhangzhou Ruicheng Ceramics Co., Ltd | 229.04 | 203.71
| Foshan Nanhai District Traven Development Decorative Tiles Co., Ltd | 229.04 | 203.71
| Foshan Czun Ceramics Co., Ltd | 229.04 | 203.71
| Foshan Qiangguan Building Materials Co., Ltd | 229.04 | 203.71
| Foshan Jiana Ceramics Co., Ltd | 229.04 | 203.71
| Foshan GIANIA Ceramics | 229.04 | 203.71
| Guangdong Shenghui Ceramics Co., Ltd | 229.04 | 203.71
| Foshan Tai-Decor Decoration Materials Co., Ltd | 229.04 | 203.71
| Fujian Minqing Jintao Ceramic Co., Ltd | 229.04 | 203.71
| Foshan Lihua Ceramics Co., Ltd | 229.04 | 203.71
| Xingning Toscana Ceramics Co., Ltd | 229.04 | 203.71
| Foshan Nanhai Shengguan Building Materials Co., Ltd | 229.04 | 203.71
| Jinjiang Zhongrong Ceramic Building Material Co., Ltd | 229.04 | 203.71
| Foshan Yangguang Ceramics Co., Ltd | 229.04 | 203.71
| Xindonglong Ceramices Co., Ltd | 229.04 | 203.71
| Jinshajiang Ceramics Co., Ltd | 229.04 | 203.71
| Enping Yijian Ceramics Co., Ltd | 229.04 | 203.71
| Jiangmen Huatao Ceramic Co., Ltd | 229.04 | 203.71
| Guangdong Jialian Enterprise Ceramics Co., Ltd | 229.04 | 203.71
| Guangdong Xinruncheng Ceramics Co., Ltd | 229.04 | 203.71
| Fujian Huatai Group Co., Ltd | 229.04 | 203.71
| Fujian Honghua Group Co., Ltd | 229.04 | 203.71
| Guangdong Yonghang New Materials Industry Co., Ltd | 229.04 | 203.71
| Jiangxi Jingcheng Ceramics Co., Ltd | 229.04 | 203.71
| Zhaoqing Langfeng Ceramics Co., Ltd | 229.04 | 203.71
| Foshan Top-Black Ceramic Co., Ltd | 229.04 | 203.71
| Zhaoqing Xinhe Ceramics Co., Ltd | 229.04 | 203.71
Yingfei International Limited | Foshan Shuangou Ceramics Co., Ltd | 229.04 | 203.71
Foshan Yinghui Industrial Co., Ltd | Heshan Heqiang Art China & Dinnerware Co., Ltd | 229.04 | 203.71
Zhuhai Xuri Star Trading Co., Ltd | Zhuhai City Doumen District Xuri Pottery and Porcelain Company Limited | 229.04 | 203.71
Zi Bo Teng Chen International Trade Co., Ltd | Zibo Jinhao Ceramics Co., Ltd | 229.04 | 203.71
| Shandong Yuan Feng Ceramics Co., Ltd | 229.04 | 203.71
Zibo Belin Trading Co., Ltd | Shandong Lion King Ceramic Technology & Science Co., Ltd | 229.04 | 203.71
| Shandong Yuanfeng Ceramic Co., Ltd | 229.04 | 203.71
| Shandong Shunwei Ceramic Co., Ltd | 229.04 | 203.71
Zibo Jiaxi Group Co., Ltd | Shandong Lionking Ceramics Co., Ltd | 229.04 | 203.71
| Shandong Gengci Group Co., Ltd | 229.04 | 203.71
| Shandong Lianzhong Ceramics Co., Ltd | 229.04 | 203.71
| Shandong Greenkey Ceramics Co., Ltd | 229.04 | 203.71
| Shandong Yuxi Ceramics Co., Ltd | 229.04 | 203.71
| Zibo Jinhao Ceramics Co., Ltd | 229.04 | 203.71
| Shandong Shunyuan Ceramics Co., Ltd | 229.04 | 203.71
| Shandong Yuma Ceramics Co., Ltd | 229.04 | 203.71
| Shandong Shunwei Ceramics Co., Ltd | 229.04 | 203.71
| Zibo New Jinyi Ceramic And Technoogy Co., Ltd | 229.04 | 203.71
| Zibo Ginca Ceramics Co., Ltd | 229.04 | 203.71
| Linyi Aoda Ceramics Co., Ltd | 229.04 | 203.71
Zibo Lipin Ceramic Co., Ltd | Shandong Shunwei Ceramics Co., Ltd | 229.04 | 203.71
| Shandong Yuanfeng Ceramics Co., Ltd | 229.04 | 203.71
| Shandong Shiziwang Ceramics Technology Co., Ltd | 229.04 | 203.71
| Shandong Zibo Luzhong Construction Materials Plant | 229.04 | 203.71
| Shandong Mingyu Ceramics Technology Co., Ltd | 229.04 | 203.71
| Zibo Xinjinyi Ceramics Technology Co., Ltd | 229.04 | 203.71
| Shandong Guorun Ceramics Co., Ltd | 229.04 | 203.71
| Zibo Jinyi Ceramics Co., Ltd | 229.04 | 203.71
| Anyang Fuerjia Ceramics Technology Co., Ltd | 229.04 | 203.71
| Shandong Gengci Group Co., Ltd | 229.04 | 203.71
| Zhangzhou Aoli Ceramics Development Co., Ltd | 229.04 | 203.71
| Nan'an Kuoda Construction Materials Co., Ltd | 229.04 | 203.71
| Foshan Modern Mingshi Ceramics Co., Ltd | 229.04 | 203.71
China-Wide Entity ¹⁶ |  | 356.02 | 330.69
¹⁶ Including: Belite Ceramics (Anyang) Co., Ltd., Beilitai (Tianjin) Tile Co., Ltd., Tianjin Honghui Creative Technology Co., Ltd., Foshan Sanfi Import & Export Co., Ltd., Foshan Foson Tiles Co., Ltd., and Foshan Ibel Import and Export Ltd.

Continuation of Suspension of Liquidation

In accordance with section 735(c)(1)(B) of the Act, we will instruct U.S. Customs and Border Protection (CBP) to continue to suspend liquidation of all entries of ceramic tile from China, as described in the “Scope of the Investigation” section, entered, or withdrawn from warehouse, for consumption on or after November 14, 2019, the date of publication of the Preliminary Determination notice in the Federal Register.

Pursuant to section 735(c)(1)(B)(ii) of the Act, Commerce will instruct CBP to require a cash deposit ¹⁷ equal to the weighted-average amount by which normal value exceeds U.S. price as follows: (1) The cash deposit rate for the exporter/producer combination listed in the table above will be the rate identified for that combination in the table; (2) for all combinations of China exporters/producers of subject merchandise that have not received their own separate rate above, the cash-deposit rate will be the cash deposit rate established for the China-wide entity; and (3) for all non-China exporters of the subject merchandise which have not received their own separate rate above, the cash-deposit rate will be the cash deposit rate applicable to the China exporter/producer combination that supplied that non-China exporter. These suspension of liquidation instructions will remain in effect until further notice.

¹⁷ See Modification of Regulations Regarding the Practice of Accepting Bonds During the Provisional Measures Period in Antidumping and Countervailing Duty Investigations, 76 FR 61042 (October 3, 2011).

We normally adjust AD cash deposit rates by the amount of export subsidies, where appropriate. In the companion countervailing duty (CVD) investigation we found that an export subsidy adjustment of 25.33 percent to the cash deposit rate is warranted, because this is the export subsidy rate included in the CVD all-others rate to which the separate-rate companies are subject. As part of our determination in this final determination to apply AFA to the China-wide entity, Commerce has adjusted the China-wide entity's AD cash deposit rate by the lowest export subsidy rate determined for any party in the companion CVD proceeding, i.e., 25.33 percent.¹⁸

¹⁸ See, e.g., Certain Passenger Vehicle and Light Truck Tires from the People's Republic of China: Preliminary Determination of Sales at Less Than Fair Value; Preliminary Affirmative Determination of Critical Circumstances; In Part and Postponement of Final Determination, 80 FR 4250 (January 27, 2015), and accompanying IDM at 35.

International Trade Commission (ITC) Notification

In accordance with section 735(d) of the Act, we will notify the ITC of the final affirmative determination of sales at LTFV. As Commerce's final determination is affirmative, in accordance with section 735(b)(2) of the Act, the ITC will determine, within 45 days, whether the domestic industry in the United States is materially injured, or threatened with material injury, by reason of imports of ceramic tile from China, or sales (or the likelihood of sales) for importation, of ceramic tile from China. If the ITC determines that such injury does not exist, this proceeding will be terminated, and all securities posted will be refunded or canceled. If the ITC determines that such injury does exist, Commerce will issue an AD order directing CBP to assess, upon further instruction by Commerce, duties on all imports of the subject merchandise entered, or withdrawn from warehouse, for consumption on or after the effective date of the suspension of liquidation.

Notification Regarding Administrative Protective Orders (APO)

In the event that the ITC issues a final negative injury determination, this notice will serve as the only reminder to parties subject to the APO of their responsibility concerning the destruction of proprietary information disclosed under APO in accordance with 19 CFR 351.305(a)(3). Timely written notification of the return/destruction of APO materials or conversion to judicial protective order is hereby requested. Failure to comply with the regulations and terms of an APO is a violation which is subject to sanction.

Notification to Importers

This notice also serves as an initial reminder to importers of their responsibility under 19 CFR 351.402(f) to file a certificate regarding the reimbursement of AD duties prior to liquidation. Failure to comply with this requirement could result in Commerce's presumption that reimbursement of AD duties occurred and the subsequent assessment of doubled AD duties.

Notification to Interested Parties

This determination is issued and published in accordance with sections 735(d) and 777(i)(1) of the Act, and 19 CFR 351.210(c). Note that Commerce has temporarily modified certain of its requirements for serving documents containing business proprietary information, until May 19, 2020, unless extended.¹⁹

¹⁹ See Temporary Rule Modifying AD/CVD Service Requirements Due to COVID-19, 85 FR 17006 (March 26, 2020).

Dated: March 30, 2020.
Jeffrey I. Kessler,
Assistant Secretary for Enforcement and Compliance.

Appendix I—Scope of the Investigation

The merchandise covered by this investigation is ceramic flooring tile, wall tile, paving tile, hearth tile, porcelain tile, mosaic tile, flags, finishing tile, and the like (hereinafter ceramic tile). Ceramic tiles are articles containing a mixture of minerals including clay (generally hydrous silicates of alumina or magnesium) that are fired so the raw materials are fused to produce a finished good that is less than 3.2 cm in actual thickness. All ceramic tile is subject to the scope regardless of end use, surface area, and weight, regardless of whether the tile is glazed or unglazed, regardless of the water absorption coefficient by weight, regardless of the extent of vitrification, and regardless of whether or not the tile is on a backing. Subject merchandise includes ceramic tile with decorative features that may in spots exceed 3.2 cm in thickness and includes ceramic tile “slabs” or “panels” (tiles that are larger than 1 meter² (11 ft.²)).

Subject merchandise includes ceramic tile that undergoes minor processing in a third country prior to importation into the United States. Similarly, subject merchandise includes ceramic tile produced that undergoes minor processing after importation into the United States. Such minor processing includes, but is not limited to, one or more of the following: Beveling, cutting, trimming, staining, painting, polishing, finishing, additional firing, or any other processing that would otherwise not remove the merchandise from the scope of the investigation if performed in the country of manufacture of the in-scope product.

Subject merchandise is currently classified in the Harmonized Tariff Schedule of the United States (HTSUS) under the following subheadings of heading 6907: 6907.21.1005, 6907.21.1011, 6907.21.1051, 6907.21.2000, 6907.21.3000, 6907.21.4000, 6907.21.9011, 6907.21.9051, 6907.22.1005, 6907.22.1011, 6907.22.1051, 6907.22.2000, 6907.22.3000, 6907.22.4000, 6907.22.9011, 6907.22.9051, 6907.23.1005, 6907.23.1011, 6907.23.1051, 6907.23.2000, 6907.23.3000, 6907.23.4000, 6907.23.9011, 6907.23.9051, 6907.30.1005, 6907.30.1011, 6907.30.1051, 6907.30.2000, 6907.30.3000, 6907.30.4000, 6907.30.9011, 6907.30.9051, 6907.40.1005, 6907.40.1011, 6907.40.1051, 6907.40.2000, 6907.40.3000, 6907.40.4000, 6907.40.9011, and 6907.40.9051. Subject merchandise may also enter under subheadings of headings 6914 and 6905: 6914.10.8000, 6914.90.8000, 6905.10.0000, and 6905.90.0050. The HTSUS subheadings are provided for convenience and customs purposes only. The written description of the scope of this investigation is dispositive.

Appendix II—Issues and Decision Memorandum

I. Summary

II. Background

III. Scope Comments

IV. Scope of the Investigation

V. China-Wide Rate

VI. Adjustment to Cash Deposit Rate for Export Subsidies

VII. Critical Circumstances

VIII. Discussion of the Issues

Comment 1: Separate Rate Status of Belite

Comment 2: Separate Rate Status of Foshan Sanfi

Comment 3: Calculation of the Separate Rate

Comment 4: Other Issues

IX. Recommendation

[FR Doc. 2020-07188 Filed 4-6-20; 8:45 am]

BILLING CODE 3510-DS-P